DEPARTMENT OF ENERGY

Federal Energy Regulatory Commission

[Docket No. CP03-42-000]

Gulf South Pipeline Company, LP; Notice of Application

February 4, 2003.

Take notice that on January 24, 2003, Gulf South Pipeline Company, LP (Gulf South), 20 East Greenway Plaza, Houston, Texas 77046, filed in Docket No. CP03-42-000, an application pursuant to Sections 7(c) of the Natural Gas Act (NGA), as amended, and part 157 of the regulations of the Federal Energy Regulatory Commission (Commission), to increase the maximum allowable operating pressure (MAOP) of its Index 135 transmission facility in Calcasieu Parish, Louisiana. Gulf South states that the increase will provide sufficient pressure to ensure service to existing markets, all as more fully set forth in the application which is on file with the Commission and open to public inspection. This filing is available for review at the Commission or may be viewed on the Commission's Web site at http://www.ferc.gov using the “FERRIS” link. Enter the docket number excluding the last three digits in the docket number field to access the document. For assistance, please contact FERC Online Support at FERCOnlineSupport@ferc.gov or toll-free at (866) 208-3676, or for TTY, contact (202) 502-8659.

Specifically, Gulf South states that the increase in MAOP will result in an increase in Index 135's daily design capacity flowing north to south, 148 mmcf/d and on the south to north flow, 69 mmcf/d. Accordingly, the uprate allows Gulf South to continue to serve its traditional markets while augmenting deliverability and delivery by utilizing gas flowing from Index 201-9 for north to south flows.

Any questions concerning this application may be directed to J. Kyle Stephens, Director of Certificates, Gulf South Pipeline Company, LP, 20 East Greenway Plaza, Houston, Texas 77046, at (713) 544-7309 or fax (713) 544-4818 or email: kyle.stephens@gulfsouthpl.com.

There are two ways to become involved in the Commission's review of this project. First, any person wishing to obtain legal status by becoming a party to the proceedings for this project should file with the Federal Energy Regulatory Commission, 888 First Street, NE., Washington, DC 20426, a motion to intervene in accordance with the requirements of the Commission's Rules of Practice and Procedure (18 CFR 385.214 or 385.211) and the Regulations under the NGA (18 CFR 157.10) by the comment date, below. A person obtaining party status will be placed on the service list maintained by the Secretary of the Commission and will receive copies of all documents filed by the applicant and by all other parties. A party must submit 14 copies of filings made with the Commission and must mail a copy to the applicant and to every other party in the proceeding. Only parties to the proceeding can ask for court review of Commission orders in the proceeding.

However, a person does not have to intervene in order to have comments considered. The second way to participate is by filing with the Secretary of the Commission, as soon as possible, an original and two copies of comments in support of or in opposition to this project. The Commission will consider these comments in determining the appropriate action to be taken, but the filing of a comment alone will not serve to make the filer a party to the proceeding. The Commission's rules require that persons filing comments in opposition to the project provide copies of their protests only to the party or parties directly involved in the protest.

Protests and interventions may be filed electronically via the Internet in lieu of paper; see 18 CFR 385.2001(a)(1)(iii) and the instructions on the Commission's Web site under the “e-Filing” link. The Commission strongly encourages electronic filings.

If the Commission decides to set the application for a formal hearing before an Administrative Law Judge, the Commission will issue another notice describing that process. At the end of the Commission's review process, a final Commission order approving or denying a certificate will be issued.

Comment Date: February 25, 2003.

Magalie R. Salas,
Secretary.

[FR Doc. 03-3140 Filed 2-7-03; 8:45 am]

BILLING CODE 6717-01-P